SMALL BUSINESS ADMINISTRATION

Notice of Exemption Request Under Section 312 of the Small Business Investment Act, Conflicts of Interest; Contemporary Healthcare Senior Lien Fund I, LP

Notice is hereby given that Contemporary Healthcare Senior Lien Fund I, LP, License No. 02/02-0649, 1040 Broad Street, Suite 103, Shrewsbury, NJ, a Federal Licensee under the Small Business Investment Act of 1958, as amended (“the Act”), in connection with the financing of a small concern, has sought an exemption under Section 312 of the Act and Section 107.730, Financings which Constitute Conflicts of Interest, of the Small Business Administration (“SBA”) Rules and Regulations (13 CFR 107.730). Contemporary Healthcare Senior Lien Fund I, LP, proposes to provide a loan to The Greens at Creekside, 12942 Womall Road, Kansas City, Missouri 64145. The financing is contemplated to refinance and discharge a portion of mezzanine financing provided by an Associate (as defined in Sec. 105.50 of the regulations) to pay capitalized interest, to pay closing costs and for working capital purposes.

The financing is brought within the purview of § 107.730(a)(4) and (d)(2) of the Regulations because Contemporary Healthcare Senior Lien Fund I, LP's financing will be used to discharge a portion of an Associate's mezzanine financing and represents a financing with an Associate.

Notice is hereby given that any interested person may submit written comments on the transaction to the Associate Administrator for Investment and Innovation, U.S. Small Business Administration, 409 3rd Street SW., Washington, DC 20416.

Dated: October 26, 2011.
Sean J. Greene,
Associate Administrator for Investment.

[FR Doc. 2011-28980 Filed 11-8-11; 8:45 am]

BILLING CODE 8025-01-P